DEPARTMENT OF TRANSPORTATION

Federal Motor Carrier Safety Administration

[Docket No. FMCSA-2006-2575; FMCSA-2011-0193; FMCSA-2011-0194; FMCSA-2013-0183; FMCSA-2013-0186; FMCSA-2013-0188; FMCSA-2013-0189]

Qualification of Drivers; Exemption Applications; Diabetes

AGENCY: Federal Motor Carrier Safety Administration (FMCSA), DOT.

ACTION: Notice of renewal of exemption; request for comments.

SUMMARY: FMCSA announces its decision to renew the exemptions from its rule prohibiting persons with insulin-treated diabetes mellitus (ITDM) from operating commercial motor vehicles (CMVs) in interstate commerce for 90 individuals. FMCSA has statutory authority to exempt individuals from this rule if the exemptions granted will not compromise safety. The Agency has concluded that granting these exemption renewals will provide a level of safety that is equivalent to or greater than the level of safety maintained without the exemptions for these CMV drivers.

DATES: Each group of renewed exemptions are effective from the dates stated in the discussions below.

FOR FURTHER INFORMATION CONTACT: Christine A. Hydock, Chief, Medical Programs Division, 202-366-4001, fmcsamedical@dot.gov, FMCSA, Department of Transportation, 1200 New Jersey Avenue SE., Room W64-224, Washington, DC 20590-0001. Office hours are from 8:30 a.m. to 5:00 p.m. Monday through Friday, except Federal holidays.

SUPPLEMENTARY INFORMATION:

I. Electronic Access

You may submit comments using the following Federal Docket Management System (FDMS) Docket Nos. discussed in this notice using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The Federal Docket Management System (FDMS) is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

On November 6, 2015, FMCSA published a notice of intent to renew the exemptions of drivers who have previously held exemptions, and requested comments from the public (80 FR 68895). The 90 individuals have held exemptions from the Agency's rule prohibiting persons with ITDM from operating CMVs in interstate commerce.

Under 49 U.S.C. 31136(e) and 31315, FMCSA may renew an exemption in 49 CFR 391.41(b)(3), which applies to drivers of CMVs in interstate commerce, for a two-year period if it finds “such exemption would likely achieve a level of safety that is equivalent to or greater than the level that would be achieved absent such exemption.” The procedures for requesting an exemption (including renewals) are set out in 49 CFR part 381.

III. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver. FMCSA encourages you to participate by submitting comments and related materials.

IV. Basis for Renewing Exemptions

This notice addresses 90 individuals who have requested renewal of their exemptions in accordance with FMCSA procedures. FMCSA has evaluated these 90 applications for renewal on their merits and decided to extend each exemption for a renewable two-year period.

In accordance with 49 U.S.C. 31136(e) and 31315, the following groups of drivers received renewed exemptions in the month of November and are discussed below.

As of November 1, 2015 the following 17 individuals have satisfied conditions for obtaining a renewed exemption from the rule prohibiting drivers with ITDM from driving CMVs in interstate commerce (78 FR 50482; 78 FR 65754; 80 FR 68895):

John K. Abels (IL)

Dean A. Bacon (IN)

Philip E. Banks (OH)

Anthony M. Bride (NJ)

Charles E. Dailey (AL)

Kenneth D. Denny (WA)

Adam M. Hogue (MS)

Allen D. LaFave (ND)

Greg P. Mason (NY)

Thomas D. Miller (MT)

Douglas A. Mulligan (KY)

David G. Peters (PA)

Robert J. Rispoli, Jr. (NY)

Mike P. Senn (MN)

Hames H. Suttles (AL)

Gregory F. Wendt (NE)

Michael J. Wickstrom (MI)

The drivers were included in Docket No. FMCSA-2013-0183. Their exemptions are effective as of November 1, 2015 and will expire on November 1, 2017.

As of November 6, 2015, the following individual, George J. Ehnot (PA), has satisfied the renewal conditions for obtaining an exemption from the rule prohibiting drivers with ITDM from driving CMVs in interstate commerce (78 FR 56988; 78 FR 67459; 80 FR 68895).

The driver was included in Docket No. FMCSA-2013-0186. The exemption is effective as of November 6, 2015 and will expire on November 6, 2017.

As of November 9, 2015, the following 11 individuals have satisfied the renewal conditions for obtaining an exemption from the rule prohibiting drivers with ITDM from driviing CMVs in interstate commerce. (78 FR 55460; 78 FR 69795; 80 FR 68895):

Mark A. Blanton (IN)

Howard T. Cash (IL)

Heath J. Chesser (AL)

Kevin F. Connacher (PA)

Darryl A. Daniels (OH)

Carrie L. Frisby (CA)

Dean M. Keeven (MI)

Christopher A. Labudde (IL)

Brian A. Mankowski (IL)

Robert E. Welling (OH)

Keith Weymouth (ME)

The drivers were included in Docket No. FMCSA-2011-0193. Their exemptions are effective as of November 9, 2015 and will expire on November 9, 2017. As of November 12, 2015, the following 24 individuals have satisfied the renewal conditions for obtaining an exemption from the rule prohibiting drivers with ITDM from driving CMVs in interstate commerce. (78 FR 56988; 78 FR 67459; 80 FR 68895):

Charles E. Andersen (MN)

Philip B. Blythe (IL)

Ryan T. Byndas (AZ)

Winfred G. Clemenson (WA)

Michael C. Crewse (IL)

James D. Crosson, Jr. (MN)

Bruce E. Feltenbarger (MI)

Charles A. Fleming (VA)

Brian W. Hannah (UT)

Michael P. Huck (MI)

Van K. Jarrett (KY)

Keith W. Lewis (MO)

Eugene M. Mikell (NH)

Ronny J. Moreau (NH)

James M. O'Rourke (MA)

Joshua T. Paumer (MT)

Vladimir B. Petkov (MO)

Luther S. Pickell (KS)

Robert J. Pulliam (AZ)

Andrew W. Sprester (ND)

Vincent J. Terrizzi, Sr. (PA)

Daniel C. Theis (FL)

Richard A. White (TN)

Mark A. Winning (IL)

The drivers were included in Docket No. FMCSA-2013-0186. Their exemptions are effective as of November 12, 2015 and will expire on November 12, 2017.

As of November 16, 2015, the following 13 individuals have satisfied the renewal conditions for obtaining an exemption from the rule prohibiting drivers with ITDM from driving CMVs in interstate commerce. (76 FR 61140; 76 FR 71111; 80 FR 68895):

Mark D. Andersen (IA)

David A. Basher (MA)

Brian H. Berthiaume (VT)

Eric D. Blocker, Sr. (NC)

Berry W. Campbell (WI)

Raymond A. Jack (WA)

Quency T. Johnson (WI)

Kenny B. Keels, Jr. (SC)

Jason M. Pritchett (MI)

Steven R. Sibert (MN)

Cassie J. Silbernagel (SD)

Lewis B. Taylor (IL)

James A. Terilli (NY)

The drivers were included in Docket No. FMCSA-2011-0194. Their exemptions are effective as of November 16, 2015 and will expire on November 16, 2017.

As of November 19, 2015, the following individual, Marshall H. Evans (IL), has satisfied the renewal conditions for obtaining an exemption from the rule prohibiting drivers with ITDM from driving CMVs in interstate commerce (76 FR 63280; 76 FR 76398; 80 FR 68895).

The driver was included in Docket No. FMCSA-2013-0188. The exemption is effective as of November 19, 2015 and will expire on November 19, 2017.

As of November 20, 2015, the following 22 individuals have satisfied the renewal conditions for obtaining an exemption from the rule prohibiting drivers with ITDM from driving CMVs in interstate commerce (71 FR 58464; 71 FR 67201; 80 FR 68895):

John N. Anderson (MN)

Allan C. Boyum (MN)

Terry L. Brantley (NC)

Steven E. Brechting (MI)

Scott A. Carlson (WI)

Joseph L. Coggins (SC)

Stephanie D. Fry (WY)

Robert W. Gaultney, Jr. (MD)

Paul T. Kubish (WI)

David M. Levy (NY)

Sterling C. Madsen (UT)

David F. Morin (CA)

Jeffrey J. Morinelli (NE)

Ronald D. Murphy (WV)

Charles B. Page (PA)

John A. Remaklus (OH)

Michael D. Schooler (IN)

Arthur L. Stapleton, Jr. (OH)

Carolyn J. Taylor (IN)

Jeffrey M. Thew (WA)

Barney J. Wade (MS)

Dennis D. Wade (IL)

The drivers were included in Docket No. FMCSA-2006-2575. Their exemptions are effective as of November 20, 2015 and will expire on November 20, 2017.

As of November 22, 2015, the following individual, Steven R. Auger (NH), has satisfied the renewal conditions for obtaining an exemption from the rule prohibiting drivers with ITDM from driving CMVs in interstate commerce (76 FR 63295; 76 FR 76400; 80 FR 68895).

The driver was included in Docket No. FMCSA-2013-0189. The exemption is effective as of November 22, 2015 and will expire on November 22, 2017.

Each of these 90 drivers qualifies for a renewal of the exemption. They have maintained their required medical monitoring and have not exhibited any medical issues that would compromise their ability to safely operate a CMV during the previous 2-year exemption period.

These factors provide an adequate basis for predicting each driver's ability to continue to drive safely in interstate commerce. Therefore, FMCSA concludes that extending the exemption for each of the 90 drivers for a period of two years is likely to achieve a level of safety equal to that existing without the exemption.

V. Conditions and Requirements

The exemptions are extended subject to the following conditions: (1) That each individual submit a quarterly monitoring checklist completed by the treating endocrinologist as well as an annual checklist with a comprehensive medical evaluation; (2) that each individual reports within 2 business days of occurrence, all episodes of severe hypoglycemia, significant complications, or inability to manage diabetes; also, any involvement in an accident or any other adverse event in a CMV or personal vehicle, whether or not it is related to an episode of hypoglycemia; (3) that each individual submit an annual ophthalmologist's or optometrist's report; and (4) that each individual provide a copy of the annual medical certification to the employer for retention in the driver's qualification file, or keep a copy in his/her driver's qualification file if he/she is self-employed. The driver must also have a copy of the certification when driving, for presentation to a duly authorized Federal, State, or local enforcement official. Each exemption will be valid for two years unless rescinded earlier by FMCSA. The exemption will be rescinded if: (1) The person fails to comply with the terms and conditions of the exemption; (2) the exemption has resulted in a lower level of safety than was maintained before it was granted; or (3) continuation of the exemption would not be consistent with the goals and objectives of 49 U.S.C. 31136(e) and 31315.

VI. Conclusion

Based upon its evaluation of the 90 exemption applications, FMCSA renews the exemptions of the aforementioned drivers from the rule prohibiting drivers with ITDM from driving CMVs in interstate commerce in 49 CFR 391.64(3).

In accordance with 49 U.S.C. 31136(e) and 31315, each exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

If the exemption is still effective at the end of the 2-year period and the drivers remain in good standing with the program, have maintained their required medical monitoring, and have not exhibited any medical issues that would compromise their ability to safely operate a CMV, they are eligible to receive a renewal from FMCSA under procedures in effect at that time.

Issued on: June 20, 2016.
Larry W. Minor,
Associate Administrator for Policy.

[FR Doc. 2016-15222 Filed 6-27-16; 8:45 am]

BILLING CODE 4910-EX-P